DEPARTMENT OF THE INTERIOR

Bureau of Land Management

[WO-310-00-1310 PB 24 1A]

Extension of Currently Approved Information Collection; OMB Approval No. 1004-0074

AGENCY: Bureau of Land Management, Interior.

ACTION: Notice and request for comments.

SUMMARY: The Paperwork Reduction Act requires federal agencies to announce their intention to request extension of approval for collecting information from individuals. The Bureau of Land Management (BLM) announces its intention to request extension of approval for collecting certain information that will be used to determine the highest qualified bonus bid submitted for competitive oil and gas or geothermal lease (Form 3000-2) and enable the BLM to complete environmental reviews in compliance with the National Environmental Policy Act of 1969 (Form 3200-9). The information supplied allows BLM to determine whether a bidder is qualified to hold a lease and to conduct geothermal resource operations under the terms of the Mineral Leasing Act of 1920 and the Geothermal Steam Act of 1969.

DATES: Comments on the proposed information collection must be received by May 8, 2000.

ADDRESSES: Comments may be mailed to: Regulatory Affairs Group (WO-630), Bureau of Land Management, 1849 C St., N.W., Mail Stop 401 LS, Washington, D.C. 20240. Comments may be sent via the Internet to: WOComment@blm.gov. Please include “Attn.: 1004-0074” and your name and address in your Internet address.

FOR FURTHER INFORMATION CONTACT: Barbara Gamble, Fluid Minerals Group, (202) 452-0338.

SUPPLEMENTARY INFORMATION: In accordance with 5 CFR 1320.8(d), BLM is required to provide a 60-day notice in the Federal Register concerning a collection of information contained in published current rules and other collection instruments to solicit comments on: (a) Whether the proposed collection of information is necessary for the proper performance of agency functions, including whether the information will have practical utility; (b) the accuracy of the agency's estimate of the burden of the proposed collection of information, including the validity of the methodology and assumptions used; (c) ways to enhance the quality, utility, and clarity of the information to be collected; and (d) ways to minimize the burden of the collection of information on those who are to respond, including through these of automated, electronic, mechanical, or other technological collection techniques or other forms of information technology.

The Mineral Leasing Act of 1920, as amended (30 U.S.C. 181 et seq.), gives the Secretary of the Interior responsibility for oil and gas leasing on approximately 600 million acres of public lands and national forests, and private lands where mineral rights have been retained by the federal government. The Federal Onshore Oil and Gas Leasing Reform Act of 1987 was passed by Congress to require that all public lands that are available for oil and gas leasing be first offered by competitive oral bidding. The Department of the Interior Appropriations Act of 1981 (43 U.S.C. 6508) provides for the competitive leasing of the lands in the National Petroleum Reserve-Alaska. The Geothermal Steam Act of 1970 (30 U.S.C. 1001-1025) authorizes the Secretary of the Interior to issue leases for geothermal development. The lands available for exploration and leasing include public, withdrawn, reserved and acquired lands administered by the BLM.

The regulations within 43 Group 3100 outline procedures for obtaining a lease to explore for, develop, and produce oil and gas resources located on federal lands. The regulations within 43 CFR Group 3200 provide for issuing geothermal leases and the exploration, development and utilization of federally owned geothermal resources. BLM needs the information requested on the two forms to process bids for oil and gas and geothermal lands and to complete environmental reviews required by NEPA.

For Form 3000-2, “Competitive Oil and Gas or Geothermal Resources Lease Bid,” the information will be used to determine the highest qualified bonus bid submitted for a competitive oil and gas or geothermal resources parcel. For Form 3200-9, “Notice of Intent to Conduct Geothermal Resources Exploration Operations,” the information will be used to enable the BLM to complete environmental reviews in compliance with NEPA. BLM needs the information requested to determine the eligibility of an applicant to hold, explore for, develop and produce oil and gas and geothermal resources on federal lands.

The forms are submitted in person or by mail to the proper BLM office. On Form 3000-2, the name and address of the bidder is needed to identify the bidder and to allow the authorized officer to ensure that the bidder meets the requirements of the regulations. The total bid and payment submitted with the bid is necessary to determine the specific bid and that the bid is accompanied by one-fifth of the amount of the bid, as required by the regulations for a geothermal bid, or the minimum acceptable bid, first year's rental, and administrative fee, as required by the regulations for an oil and gas bid.

On Form 3200-9, names and addresses are needed to identify entities who will be conducting operations on the land. The land description is necessary to determine the area to be entered or disturbed by the proposed exploration operation. Dates of commencement and completion are used to determine how long the applicant/operator/contractor intends to conduct operations on the land.

BLM developed the forms in 1990 and 1996, respectively, and the information required from the public remains the same.

Based on its experience in conducting oil and gas and geothermal lease sales and administering geothermal exploration operations, BLM estimates that the public reporting burden is 2 hours for completing the Competitive Oil and Gas or Geothermal Resources Lease Bid (Form 3000-2) and 2 hours for completing the Notice of Intent to Conduct Geothermal Resources Exploration Operations (Form 3200-9). The bidder/lessee/operator/contractor has access to records, plats, and maps necessary for providing land descriptions. These estimates include the time spent on research, gathering and assembling information, reviewing instructions, and completing and reviewing the respective forms.

BLM estimates that approximately 393 lease bids and 50 notices of intent will be filed annually, with a total annual burden of 886 reporting hours. Respondents vary from individuals and small businesses to large corporations.

Any interested member of the public may request and obtain, without charge, a copy of Form 3000-2 or 3200-9 by contacting the person identified under FOR FURTHER INFORMATION CONTACT. All responses to this notice will be summarized and included in the request for Office of Management and Budget approval. All comments will also become part of the public record.

Dated: March 2, 2000.
Carole J. Smith,
Information Clearance Officer.

[FR Doc. 00-5481 Filed 3-6-00; 8:45 am]

BILLING CODE 4310-84-M